DEPARTMENT OF TRANSPORTATION

National Highway Traffic Safety Administration

[Docket No. NHTSA 2007-28733; Notice 2]

Bentley Motors, Inc., Grant of Petition for Decision of Inconsequential Noncompliance

Bentley Motors, Inc. (Bentley) has determined that certain motor vehicles that it produced between July 2006 and March 2, 2007 do not comply with paragraphs S4.5.1(b)(3) and S4.5.1(e)(3) of 49 CFR 571.208, Federal Motor Vehicle Safety Standard (FMVSS) No. 208, Occupant Crash Protection. Bentley has filed an appropriate report pursuant to 49 CFR Part 573, Defect and Noncompliance Responsibility and Reports. Notice of receipt of a petition was published, with a 30-day public comment period on August 16, 2007 in the Federal Register (72 FR 46126). The National Highway Traffic Safety Administration (NHTSA) received no comments. To view the petition and all supporting documents: Go to http://www.regulations.gov and enter the legacy docket no. NHTSA-2007-28733.

For further information on this decision, contact Mr. Charles Case, Office of Vehicle Safety Compliance, NHTSA, telephone (202) 366-5319 or facsimile (202) 366-5930.

Affected are a total of approximately 244 model year 2007 Bentley Arnage and Azure model passenger cars produced between July 2006 and March 2, 2007. Paragraph S4.5.1(b)(3)of FMVSS No. 208 requires:

(3) Vehicles certified to meet the requirements specified in S19, S21, or S23 on or after September 1, 2003 shall have a label permanently affixed to either side of the sun visor, at the manufacturer's option, at each front outboard seating position that is equipped with an inflatable restraint. The label shall conform in content to the label shown in Figure 11 of this standard and shall comply with the requirements of S4.5.1(b)(3)(i) through S4.5.1(b)(3)(iv).

(i) The heading area shall be yellow with the word “WARNING” and the alert symbol in black.

(ii) The message area shall be white with black text. The message area shall be no less than 30 cm² (4.7 in²).

(iii) The pictogram shall be black on a white background. The pictogram shall be no less than 30 mm (1.2 in) in length.

(iv) If the vehicle does not have a back seat, the label shown in the figure may be modified by omitting the statement: “The BACK SEAT is the SAFEST place for CHILDREN.”

(v) If the vehicle does not have a back seat or the back seat is too small to accommodate a rear-facing child restraint consistent with S4.5.4.1, the label shown in the figure may be modified by omitting the statement: “Never put a rear-facing child seat in the front.”

Paragraph S4.5.1(e)(3) of FMVSS No. 208 requires:

(3) Vehicles certified to meet the requirements specified in S19, S21, and S23 on or after December 1, 2003, that are equipped with an inflatable restraint for the passenger position shall have a label attached to a location on the dashboard or the steering wheel hub that is clearly visible from all front seating positions. The label need not be permanently affixed to the vehicle. This label shall conform in content to the label shown in Figure 12 of this standard and shall comply with the requirements of S4.5.1(e)(3)(i) through S4.5.1(e)(3)(iv).

(i) The heading area shall be yellow with black text.

(ii) The message area shall be white with black text. The message area shall be no less than 30 cm² (4.7 in²).

(iii) If the vehicle does not have a back seat, the label shown in Figure 12 may be modified by omitting the statement: “The back seat is the safest place for children.”

(iv) If the vehicle does not have a back seat or the back seat is too small to accommodate a rear-facing child restraint consistent with S4.5.4.1, the label shown in Figure 12 may be modified by omitting the statement: “Never put a rear-facing child seat in the front.”

In Bentley's description of the noncompliance, it explains that instead of the “advanced air bag” warning labels required pursuant to the paragraphs S4.5.1(b)(3) and S4.5.1(e)(3) of FMVSS No. 208 the affected vehicles were equipped with the “pre-advanced” air bag warning labels conforming to paragraph S4.5.l(b)(l) and S4.5.1(e)(1).

Bentley stated that it has corrected the problem that caused these errors so that they will not be repeated in future production. Bentley also states that it believes the noncompliance is inconsequential to motor vehicle safety and that no corrective action is warranted.

Bentley argues that because the “pre-advanced” sun visor labels used on the vehicles carry essentially the equivalent or even more emphatic warnings to those required in the regulation and because the owner's manual information correctly describes the advanced air bag system, there is no safety risk or cause for consumer confusion arising from the installed labeling.

Bentley additionally states that the vehicles otherwise comply with all advanced air bag requirements, that the owner manuals contain the correct information required for advanced airbags, and that it has no record of customers contacting the company with inquiries, complaints, or comments with regard to air bag warning labels.

NHTSA Decision

The following explains our rationale.

NHTSA agrees with Bentley that the noncompliance is inconsequential to motor vehicle safety. The noncompliant labels lack a statement that the vehicle is equipped with advanced airbags. However, both the passenger air bag telltale lamp and the owner's manual indicate the presence of advanced airbags.

The noncompliant sun visor label contains all of the specific warnings required on the compliant label: Death or serious injury can occur; the back seat is the safest place for children; never put a rear-facing child seat in the front; and always use seat belts and child restraints. The noncompliant label also warns occupants to sit as far back as possible from the air bag. The noncompliant label lacks the recommendation to see the owner's manual for more information about air bags. Because the noncompliant permanent sun visor label contains virtually the same information as required by S4.5.1(b)(3), the absence of this reference to the owner's manual and the lack of a reference to “advanced air bags” do not constitute a consequential safety issue.

The noncompliant removable dash label contains similar information to that required by S4.5.1(e)(3): Children can be killed or seriously injured by the air bag; the back seat is the safest place for children; always use seat belts or child restraints. However, the noncompliant dash label does not contain the statement, “Never put a rear-facing child seat in the front”, or the recommendation to see the owner's manual for more information about air bags. This label is a removable label that most likely will not stay on the vehicle once it is purchased. The statement, “Never put a rear-facing child seat in the front” is present on the permanent sun visor label and visible to the vehicle user. As discussed above with regard to the sun visor label, the lack of the references to advanced air bags and the owner's manual are not consequential in light of the presence of the critical warning on the dash label. Therefore, NHTSA agrees with Bentley's assessment that this noncompliance will not result in any consequential safety risk.

In consideration of the foregoing, NHTSA has decided that Bentley has met its burden of persuasion that the labeling noncompliance described is inconsequential to motor vehicle safety. Accordingly, Bentley's petition is granted and the petitioner is exempted from the obligation of providing notification of, and a remedy for, the noncompliance.

Authority: 49 U.S.C. 30118, 30120; delegations of authority at 49 CFR 1.50 and 501.8.

Issued on: December 12, 2007.
Daniel C. Smith,
Associate Administrator for Enforcement.

[FR Doc. E7-24443 Filed 12-17-07; 8:45 am]

BILLING CODE 4910-59-P